COMMITTEE FOR PURCHASE FROM PEOPLE WHO ARE BLIND OR SEVERELY DISABLED

Procurement List; Additions and Deletions

AGENCY: Committee for Purchase from People Who Are Blind or Severely Disabled.

ACTION: Proposed additions to and deletions from Procurement List.

SUMMARY: This action adds to the Procurement List services to be furnished by nonprofit agencies employing persons who are blind or have other severe disabilities, and deletes from the Procurement List services previously furnished by such agencies.

DATE: April 1, 2002.

ADDRESSES: Committee for Purchase from People Who Are Blind or Severely Disabled, Jefferson Plaza 2, Suite 10800, 1421 Jefferson Davis Highway, Arlington, Virginia 22202-3259.

FOR FURTHER INFORMATION CONTACT: Sheryl D. Kennerly (703) 603-7740

SUPPLEMENTARY INFORMATION:

Additions

On November 17, 2000; June 29, 2001; December 21, 2001; January 4, January 11 and January 18, 2002, the Committee for Purchase From People Who Are Blind or Severely Disabled published notices (65 FR 69499; 66 FR 34612, 65876 and 67 FR 556m 1436 and 2631) of proposed additions to the Procurement List.

The following comments pertain to Janitorial/Grounds Maintenance/Parking Management, Department of Housing and Urban Development, Washington, DC.

Comments were received from the prime contractor for this project and from one subcontractor, in response to letters sent to these companies. Both contractors indicated that they would be severely impacted if they were not permitted to retain their contracts through the final option year.

Procurement List additions do not affect contracts in being for the supplies or services added to the Procurement List. If the Government contracting officer chooses to exercise the option, the anticipated impacts on the contractors will not occur. Even if the option is not exercised, the portion of the prime contractor's total revenues which this project represents is well below the level which the Committee considers constituting severe adverse impact on a contractor affected by a Procurement List addition. As for the subcontractor, which raised the possibility of going out of business if it loses its contract in this project, the Committee considers the creation of a number of jobs for people with severe disabilities, whose unemployment rate is near 70 percent, to outweigh the effect on the subcontractor.

The following material pertains to all of the items being added to the Procurement List.

Additions

After consideration of the material presented to it concerning capability of qualified nonprofit agencies to provide the services and impact of the additions on the current or most recent contractors, the Committee has determined that the services listed below are suitable for procurement by the federal Government under 41 U.S.C. 46-48c and 41 CFR 51-2.4. I certify that the following action will not have a significant impact on a substantial number of small entities. The major factors considered for this certification were:

1. The action will not result in any additional reporting, recordkeeping or other compliance requirements for small entities other than the small organizations that will furnish the services the Government.

2. The action will not have a severe economic impact on current contractors for the services.

3. The action will result in authorizing small entities to furnish the services to the Government.

4. There are no known regulatory alternatives which would accomplish the objectives of the Javits-Wagner-ODay Act (41 U.S.C. 46-48c) in connection with the services proposed for addition to the Procurement List.

Accordingly, the following services are added to the Procurement List:

Services

Service Type/Location: Customization & Distribution of Air Force Special Promotional Items HQ Air Force Recruiting Service, Randolph AFB, Texas.

NPA: Industries for the Blind, Inc., Milwaukee, Wisconsin.

Contract Activity: Department of the Air Force.

Service Type/Location: Fulfillment Services/Military Sealift Command, At the Nonprofit Location in Milwaukee, Wisconsin.

NPA: Industries for the Blind, Inc., Milwaukee, Wisconsin.

Contract Activity: Military Sealift Command, Virginia Beach, VA.

Service Type/Location: Janitorial/Grounds Maintenance/Parking Management/Department of Housing and Urban Development, Washington, DC.

NPA: Melwood Horticultural Training Center, Upper Marlboro, Maryland.

Contract Activity: Department of Housing & Urban Development.

Service Type/Location: Litigation Support Services/USDA Food and Nutrition Service, Alexandria, Virginia.

NPA: Federal Dispute Resolution Center, Alexandria, Virginia.

Contract Activity: Department of Agriculture.

Service Type/Location: Mailroom Support Services/Internal Revenue Service, Milwaukee, Wisconsin.

NPA: Industries for the Blind, Inc., Milwaukee, WI.

Contract Activity: Internal Revenue Services.

Service Type/Location: Operation of Self Service Supply Store/General Services Administration Sam Nunn Federal Center, Atlanta, Georgia.

NPA: Raleigh Lions Clinic for the Blind, Inc., Raleigh, North Carolina.

Contract Activity: General Services Administration.

Deletions

I certify that the following action will not have a significant impact on a substantial number of small entities. The major factors considered for this certification were:

1. The action may result in any additional reporting, recordkeeping or other compliance requirements for small entities.

2. The action will not have a severe economic impact on future contractors for the service.

3. The action may result in authorizing small entities to furnish the service to Government.

4. There are no known regulatory alternatives which would accomplish the objectives of the Javits-Wagner-ODay Act (41 U.S.C.46-48c) in connection with the service deleted from the Procurement List.

After consideration of the relevant matter presented, the committee has determined that the service listed below is no longer suitable for procurement by the Federal Government under 41 U.S.C. 46048 and 41 CFR 51-2.4.

Accordingly, the following service is deleted from the Procurement List:

Services

Service Type/Location: Janitorial/Custodial/VA Greater Los Angeles Regional Healthcare System, Los Angeles, California.

NPA: Job Options, Inc., San Diego, California.

Contract Activity: Department of Veterans Affairs.

Sheryl D. Kennerly,
Director, Information Management.

[FR Doc. 02-4919 Filed 2-28-02; 8:45 am]

BILLING CODE 6353-01-P